DEPARTMENT OF COMMERCE

International Trade Administration

[A-588-839]

Five-Year (Sunset) Reviews; Termination of Investigation

AGENCY: Import Administration, International Trade Administration, Department of Commerce.

ACTION: Notice of final results of five-year (“Sunset”) review, termination of suspended antidumping duty investigation on sodium azide from Japan.

SUMMARY: On December 3, 2001, the Department of Commerce (“the Department”) initiated a sunset review of the suspended antidumping duty investigation on sodium azide from Japan. Because no domestic party responded to the sunset review notice of initiation by the applicable deadline, the Department is terminating this suspended investigation.

EFFECTIVE DATE: January 7, 2002.

FOR FURTHER INFORMATION CONTACT: Martha V. Douthit or James P. Maeder, Office of Policy, Import Administration, International Trade Administration, U.S. Department of Commerce, 14th Street and Constitution Avenue, NW., Washington, DC 20230; telephone: (202) 482-5050 or (202) 482-3330, respectively.

SUPPLEMENTARY INFORMATION:

The Applicable Statue

Unless otherwise indicated, all citations to the Tariff Act of 1930, as amended (the “Act”), are references to the provisions effective January 1, 1995, the effective date of the amendments made to the Act by the Uruguay Round Agreements Act. In addition, unless otherwise indicated, all citations to the Department of Commerce's (“Department”) regulations are to 19 CFR part 351 (2001).

Background

On January 7, 1997, the Department suspended the antidumping duty investigation on sodium azide from Japan (62 FR 973). Pursuant to section 751(c), the Department initiated a sunset review of the suspended investigation by publishing notice of the initiation in the Federal Register, December 3, 2001 (66 FR 60184). In addition, as a courtesy to interested parties, the Department sent letters, via certified and registered mail, to each party listed on the Department's most current service list for this proceeding to inform them of the automatic initiation of the sunset review of this suspended investigation.

No domestic interested party in the sunset review of this suspended investigation responded to the notice of initiation by the December 18, 2001, deadline (see section 351.218(d)(1)(i) of Procedures for Conducting Five-year (“Sunset”) Reviews of Antidumping and Countervailing Duty Orders, 63 FR 13520 (March 20, 1998) (“Sunset Regulations”)).

Determination To Terminate

Pursuant to section 751(c)(3)(A) of the Act and § 351.218(d)(1)(iii)(B)(3) of the Sunset Regulations, if no domestic interested party responds to the notice of initiation, the Department will issue a final determination, within 90 days after the initiation of the review, terminating the suspended investigation. Because no domestic interested party responded to the notice of initiation by the applicable deadline, December 18, 2001, we are terminating the suspended antidumping investigation of sodium azide from Japan.

Effective Date of Termination

The termination of the suspended investigation is effective as to all entries, or withdrawals from warehouse, of the subject merchandise on or after January 7, 2002.

Dated: January 4, 2002.
Bernard T. Carreau,
Acting Assistant Secretary for Import Administration.

[FR Doc. 02-767 Filed 1-10-02; 8:45 am]

BILLING CODE 3510-25-P